DEPARTMENT OF COMMERCE

National Oceanic and Atmospheric Administration

50 CFR Part 660

[Docket No. 030430108-3108-01; I.D. 042503A]

RIN 0648-AQ17

Fisheries Off West Coast States and in the Western Pacific; West Coast Salmon Fisheries; 2003 Management Measures

AGENCY: National Marine Fisheries Service (NMFS), National Oceanic and Atmospheric Administration (NOAA), Commerce.

ACTION: Final rule; annual management measures for the ocean salmon fishery; request for comments.

SUMMARY: NMFS establishes fishery management measures for the 2003 ocean salmon fisheries off Washington, Oregon, and California, and the 2004 salmon seasons opening earlier than May 1, 2004. Specific fishery management measures vary by fishery and by area. The measures establish fishing areas, seasons, quotas, legal gear, recreational fishing days and catch limits, possession and landing restrictions, and minimum lengths for salmon taken in the U.S. exclusive economic zone (EEZ)(3-200 nm) off Washington, Oregon, and California. The management measures are intended to prevent overfishing and to apportion the ocean harvest equitably among treaty Indian, non-treaty commercial, and recreational fisheries. The measures are also intended to allow a portion of the salmon runs to escape the ocean fisheries in order to provide for spawning escapement and for inside fisheries (fisheries occurring in state internal waters).

DATES: Effective from 0001 hours Pacific Daylight Time, May 1, 2003, until the effective date of the 2004 management measures, as published in the Federal Register. Comments must be received by May 21, 2003.

ADDRESSES: Comments on the management measures and the related environmental assessment (EA) may be sent to D. Robert Lohn, Regional Administrator, Northwest Region, NMFS, 7600 Sand Point Way, NE., Seattle, WA 98115-0070, fax: 206-526-6376; or to Rod McInnis, Acting Regional Administrator, Southwest Region, NMFS, 501 West Ocean Boulevard, Suite 4200, Long Beach, CA 90802-4213, fax: 562-980-4018. Comments will not be accepted if submitted via e-mail or Internet.

Copies of the EA and other documents cited in this document are available from Dr. Donald O. McIsaac, Executive Director, Pacific Fishery Management Council, 7700 NE. Ambassador Place, Suite 200, Portland, OR 97220-1384.

Send comments regarding the reporting burden estimate or any other aspect of the collection-of-information requirements in these management measures, including suggestions for reducing the burden, to one of the NMFS addresses and to the Office of Management and Budget (OMB), Washington, DC 20503 (ATTN: NOAA Desk Officer).

FOR FURTHER INFORMATION CONTACT: William L. Robinson at 206-526-6140, or Svein Fougner at 562-980-4040.

SUPPLEMENTARY INFORMATION:

Background

The ocean salmon fisheries in the EEZ off Washington, Oregon, and California are managed under a “framework” fishery management plan entitled the Pacific Coast Salmon Plan (Salmon FMP). Regulations at 50 CFR part 660, subpart H, provide the mechanism for making preseason and inseason adjustments to the management measures, within limits set by the Salmon FMP, by notification in the Federal Register.

These management measures for the 2003 and pre-May 2004 ocean salmon fisheries were recommended by the Pacific Fishery Management Council (Council) at its April 7 to 11, 2003, meeting.

Schedule Used To Establish 2003 Management Measures

The Council announced its annual preseason management process for the 2003 ocean salmon fisheries in the Federal Register on January 6, 2003 (68 FR 544). This document announced the availability of Council documents as well as the dates and locations of Council meetings and public hearings comprising the Council's complete schedule of events for determining the annual proposed and final modifications to ocean salmon fishery management measures. The agendas for the March and April Council meetings were published in subsequent Federal Register documents prior to the actual meetings.

In accordance with the Salmon FMP, the Council's Salmon Technical Team (STT) and staff economist prepared a series of reports for the Council, its advisors, and the public. The first of the reports was prepared in February when the necessary scientific information first became available. The first report, “Review of 2002 Ocean Salmon Fisheries” (REVIEW), summarizes biological and socio-economic data for the 2002 ocean salmon fisheries and assesses how well the Council's 2002 management objectives were met. The second report, “Preseason Report I Stock Abundance Analysis for 2003 Ocean Salmon Fisheries” (PRE I), provides the 2003 salmon stock abundance projections and analyzes the impacts on the stocks and Council management goals if the 2002 regulations and regulatory procedures were applied to the projected 2003 stock abundances. The completion of PRE I is the initial step in evaluating the full suite of preseason options.

The Council met in Sacramento, CA from March 10 to 14, 2003, to develop 2003 management options for proposal to the public. The Council proposed three options of commercial and recreational fisheries management for analysis and public comment. These options consisted of various combinations of management measures designed to protect weak stocks of coho and chinook salmon and to provide for ocean harvests of more abundant stocks. After the March Council meeting, the Council's STT and staff economist prepared a third report, “Preseason Report II Analysis of Proposed Regulatory Options for 2003 Ocean Salmon Fisheries,” which analyzes the effects of the proposed 2003 management options. This report was made available to the Council, its advisors, and the public.

Council public hearings to receive testimony on the proposed options were held on: March 31, 2002, in Westport, WA and Coos Bay, OR; and April 1, 2002, in Eureka, CA. The States of Washington, Oregon, and California sponsored meetings in various forums that also collected public testimony, which was then presented to the Council by each state's Council representative. The Council also received public testimony at both the March and April meetings, and received written comments at the Council office.

The Council met from April 7 to 11, 2003, in Vancouver, WA to adopt its final 2003 recommendations. Following the April Council meeting, the Council's STT and staff economist prepared a fourth report, “Preseason Report III Analysis of Council-Adopted Management Measures for 2003 Ocean Salmon Fisheries,” which analyzes the environmental and socio-economic effects of the Council's final recommendations. This report also was made available to the Council, its advisors, and the public. After the Council took final action on the annual ocean salmon specifications in April, it published the recommended management measures in its newsletter, and also posted them on the Council Web site (www.pcouncil.org).

Resource Status

Since 1989, NMFS has listed under the Endangered Species Act (ESA) 16 evolutionarily significant units (ESUs) of salmon on the West Coast. As the listings have occurred, NMFS has conducted formal ESA section 7 consultations and issued biological opinions that consider the impacts to listed salmonid species resulting from proposed implementation of the Salmon FMP, or in some cases, from proposed implementation of the annual management measures. Associated with the biological opinions are incidental take statements that specify the level of take that is exempted from the section 9 prohibitions of the ESA. Some of the biological opinions have concluded that implementation of the Salmon FMP is not likely to jeopardize the continued existence of certain listed ESUs. Other biological opinions have found that implementation of the Salmon FMP is likely to jeopardize certain listed ESUs and have identified reasonable and prudent alternatives (consultation standards) that would avoid the likelihood of jeopardizing the continued existence of the ESU under consideration. In a March 7, 2003, letter to the Council, NMFS provided the Council with ESA consultation standards and guidance for the management of stocks listed under the ESA in preparation for the 2003 management season in order to ensure that the Council recommendations comply with the ESA.

Estimates of the 2002 spawning escapements for key stocks managed under the Salmon FMP and preseason estimates of 2003 ocean abundance are provided in the Council's REVIEW and PRE I documents. The primary resource and management concerns are for salmon stocks listed under the ESA.

California coastal chinook is listed as a threatened species under the ESA. Coastal chinook spawning populations are not well monitored and no estimate of an ocean exploitation rate is available. NMFS' ESA consultation standard for California coastal chinook requires that the projected annual ocean harvest rate on age-4 Klamath River fall chinook not exceed 0.16. The annual age-4 harvest rate is reported as the landings of age-4 Klamath River fall chinook from September 1 of the previous year through August 31 of the current year divided by the estimated abundance of age-4 fish on September 1 of the previous year. The standard is intended to prevent harvest impacts on California coastal chinook from increasing substantially above levels that occurred between 1996-1999. The ocean harvest rate on Klamath River fall chinook is 0.16 for the Council's 2003 recommendation.

NMFS’ consultation standard requires an exploitation rate of no more than 15 percent for Oregon coastal natural (OCN) coho, and no more than 13 percent for Rogue/Klamath coho. The Council's recommendations were 14.4 percent and 9.6 percent, respectively. The 2003 ocean abundance estimate for OCN is 117,900 coho, which is 164 percent of the 2002 preseason prediction of 71,800 coho, and 39 percent of the post-season estimate of 304,500 coho.

The Lower Columbia River (LCR) chinook ESU is comprised of a spring component, a far north-migrating bright component (Brights have a relatively long time interval between freshwater entry and spawning and are primarily destined for areas higher in the Columbia River drainage.), and a component of north-migrating tules (Tules spawn within a few weeks of river return, most to production areas lower in the drainage, and are distinguished by their darker color and advanced state of maturation.). LCR tule stocks are impacted substantially in Council fisheries, with the spring stocks and the bright component of the ESU impacted to a lesser degree. There are four self-sustaining populations of tule chinook in the Lower Columbia River (Coweeman, East Fork Lewis, Clackamas, and Sandy) that are not substantially influenced by hatchery strays. The current ESA consultation standards constrain the exploitation rate on LCR chinook to a Rebuilding Exploitation Rate (RER) for the Coweeman population to not more than 49 percent. The Council's 2003 recommendations have an estimated exploitation rate of 47 percent. This constraint was one of the major drivers for formulating Council fisheries this year.

Snake River wild fall chinook are listed under the ESA as a threatened species. Direct information on the stock's ocean distribution and on fishery impacts is not available. Fishery impacts on Snake River fall chinook are evaluated using the Lyons Ferry Hatchery stock as an indicator. The Lyons Ferry stock is widely distributed and harvested by ocean fisheries from southern California to Alaska. NMFS' ESA consultation standard requires that Council fisheries must be managed to ensure that the Adult Equivalent (AEQ) exploitation rate on age-3 and age-4 adults for the combined Southeast Alaska, Canadian, and Council fisheries is not more than 70 percent of that observed during the 1988-1993 base period. The Council's 2003 recommendations, combined with expected impacts in Southeast Alaska and Canada fisheries, have an estimated age ¾ AEQ exploitation rate that is 67 percent of that observed during the 1988-1993 base period. In the last few years Snake River wild fall chinook have not been a driver in formulating Council fisheries, primarily due to low Canadian impacts. However, with some West Coast chinook stocks increasing in abundance, Canadian catch restrictions, especially in troll fisheries, have been easing. As a result, in the last 2 years the Snake River fall chinook age ¾ AEQ exploitation rate across all ocean fisheries has increased and is now close to the ESA limit.

This is the fourth year that NMFS provided guidance to the Council related to the Puget Sound chinook ESU. NMFS' consultation standards for Puget Sound chinook stocks are expressed in terms of total or southern U.S. fishery exploitation rate ceilings, or terminal escapement objectives. Under the current management structure, Council fisheries are included as part of the suite of fisheries that comprise the fishing regime negotiated each year by the co-managers under U.S. v. Washington to meet management objectives for Puget Sound and Washington Coastal salmon stocks. Because these management objectives and the management planning structure address fisheries wherever they exist, Council and Puget Sound fisheries are interconnected. Therefore, in adopting its regulations, the Council must determine that its fisheries in the ocean, when combined with the suite of other fisheries impacting this ESU, meet the management targets set for stocks within this ESU. NMFS estimated that the exploitation rates from Council-managed fisheries on Puget Sound chinook populations will range from zero to eight percent. Management actions taken to meet exploitation rate targets will, therefore, occur primarily in the Puget Sound fisheries, but the nature of the existing process is such that ocean fishery impacts will be accounted for, and are potentially liable to constraining measures to meet particular targets.

NMFS is evaluating the “Puget Sound Comprehensive Chinook Management Plan: Harvest Management Component as a Resource Management Plan” for Puget Sound chinook under the ESA 4(d) rule (RMP). The RMP, jointly developed by the Washington Department of Fish and Wildlife (WDFW) and the Puget Sound Treaty Tribes, includes stock-specific harvest management objectives for Puget Sound chinook. NMFS has determined the 2003 ocean and inside fisheries are consistent with the RMP, and determined preliminarily that the RMP is consistent with the 4(d) rule. NMFS plans to complete its final 4(d) determination and biological opinion of Council fisheries by the end of May. Ultimately, fisheries will be managed consistent with NMFS' final 4(d) determination and biological opinion. In the unlikely event that NMFS' ultimate conclusion is that management measures regarding Puget Sound chinook are required beyond those being adopted by NMFS for the Council area fisheries and the measures planned by the state and tribes for the inside Puget Sound fisheries, such measures can be implemented through further adjustments to either Council salmon fisheries, or Puget Sound salmon fisheries which are not regulated by the Council.

Management Measures for 2003 Fisheries

The Council recommended ocean harvest levels and management measures for 2003 fisheries are designed to apportion the burden of protecting the weak stocks identified and discussed in PRE I equitably among ocean fisheries and to allow maximum harvest of natural and hatchery runs surplus to inside fishery and spawning needs. NMFS finds the Council's recommendations responsive to the goals of the Salmon FMP, the requirements of the resource, and the socio-economic factors affecting resource users. The recommendations are consistent with the requirements of the Magnuson-Stevens Fishery Conservation and Management Act and U.S. obligations to Indian tribes with federally recognized fishing rights, and U.S. international obligations regarding Pacific salmon. Accordingly, NMFS has adopted them.

North of Cape Falcon, OR, the 2003 management measures have a slightly lower chinook quota and substantially higher coho quota relative to the 2002 season. The total allowable catch for 2003 is 124,000 chinook and 300,000 coho; these fisheries are restricted to protect depressed Lower Columbia River wild coho, Washington coastal, Puget Sound, and OCN coho. Washington coastal and Puget Sound chinook generally migrate to the far north and are affected insignificantly by ocean harvests from Cape Falcon, OR to the U.S.-Canada border. North of Cape Alava, WA, this is the second year there is a provision prohibiting retention of chum during August and September to protect ESA listed Hood Canal summer chum.

South of Cape Falcon, OR, the retention of coho is prohibited, except for a recreational selective fishery off Oregon with an 88,000-fish quota of marked hatchery coho. The Council's recommendations are below the 15-percent exploitation rate permitted under Amendment 13 to protect listed OCN coho stocks, with an expected 14.4-percent OCN coho exploitation rate. The expected ocean exploitation rate for Rogue/Klamath coho is 9.6 percent, and is also below its exploitation rate limit of 13 percent. Chinook fisheries are constrained primarily to meet the ESA standards for California coastal chinook and Sacramento River winter chinook. However, most areas will have an increase in opportunity to catch chinook given the high forecasts in ocean abundance for most stocks.

Treaty Indian Fisheries

The treaty-Indian commercial troll fishery quota is 60,000 chinook in ocean management areas and Washington State Statistical Area 4B combined, the same as in 2002. The fisheries include a chinook-directed fishery in May and June (under a quota of 30,000 chinook) and an all-salmon season beginning in July with a 30,000 chinook sub-quota. The coho quota for the treaty-Indian troll fishery in ocean management areas, including Washington State Statistical Area 4B for the July-September period is 90,000 coho, a 50-percent increase from 2002.

Management Measures for 2004 Fisheries

The timing of the March and April Council meetings makes it impracticable for the Council to recommend fishing seasons that begin before May 1 of the same year. Therefore, the 2004 fishing seasons opening earlier than May 1 are also established in this action. The Council recommended, and NMFS concurs, that the recreational seasons from Horse Mountain to the U.S.-Mexico Border will open off California in 2004 as indicated in the season description section. At the November 2003 meeting, the Council may consider inseason recommendations to adjust commercial and recreational seasons for all salmon except coho prior to May 1 in areas off Oregon south of Cape Falcon, OR, and in the recreational season for all salmon except coho between Point Arena and Pigeon Point, CA. At the March 2004 meeting, the Council may consider inseason recommendations to open commercial seasons for all salmon except coho prior to May 1 in areas off California between Horse Mountain and Point Arena, CA and identify the areas, season, quota, and special regulations for any experimental April fisheries, which may be proposed at the Council's November 2003 meeting.

Inseason Actions

The following sections set out the management regime for the salmon fishery. Open seasons and days are described in Sections 1, 2, and 3 of the 2003 management measures. Inseason closures in the commercial and recreational fisheries are announced on the NMFS hotline and through the U.S. Coast Guard Notice to Mariners as described in section 7. Other inseason adjustments to management measures are also announced on the hotline and through the Notice to Mariners.

The following are the management measures recommended by the Council and approved and implemented here for 2003 and, as specified, for 2004.

Section 1. Commercial Management Measures for 2003 Ocean Salmon Fisheries

Note: This section contains restrictions in parts A, B, and C that must be followed for lawful participation in the fishery.

A. Season Description

North of Cape Falcon, OR

U.S.-Canada Border to Cape Falcon, OR

May 1 through earlier of June 30 or 40,000 chinook quota. The fishery will be managed to provide a remaining quota of 800 chinook for a June 26-30 open period with a 50 fish per vessel landing limit for the five-day open period. All salmon except coho (B; C.6). Cape Flattery and Columbia Control Zones closed (C.4). See gear restrictions (C.2). Vessels must land and deliver their fish within the area or in Garibaldi, OR, and within 24 hours of any closure of this fishery. State regulations require that fishers south of Cape Falcon, OR intending to fish within this area, and/or fishers fishing within this area intending to land salmon in Garibaldi, OR, notify Oregon Department of Fish and Wildlife (ODFW) before transiting the Cape Falcon, OR line (45°46′00″ N. lat.) at the following phone number: (541) 867-0300 Ext. 252. Inseason actions may modify harvest guidelines in later fisheries to achieve or prevent exceeding the overall allowable troll harvest impacts (C.7.a).

July 3 through earlier of September 14 or 24,400-preseason chinook guideline (C.7.a), or a 75,000 coho quota. Fishery is 5-days open/2-days closed. Landing limit of 75 chinook per vessel for the period July 3-7; landing limit of 150 chinook per 5-day open period for the remainder of the season. All salmon except no chum retention north of Cape Alava, WA during August and September (B; C.6). All retained coho must have a healed adipose fin clip. Cape Flattery and Columbia Control Zones closed; Grays Harbor Control Zone closed beginning August 16 (C.4). See gear restrictions (C.2). Vessels must land and deliver their fish within the area or in Garibaldi, OR, and within 24 hours of any closure of this fishery. State regulations require fishers south of Cape Falcon, OR intending to fish within this area, and/or fishers fishing within this area intending to land salmon in Garibaldi, OR, notify ODFW before transiting the Cape Falcon, OR line (45°46′00″ N. lat.) at the following phone number: (541) 867-0300 Ext. 252. Trip limits, gear restrictions, and guidelines may be implemented or adjusted inseason.

South of Cape Falcon, OR

Cape Falcon, OR to Florence South Jetty

March 15 through July 16; August 1 through August 19 and September 1 through October 31 (C.8). All salmon except coho (C.6). Chinook 26-inch (66.0-cm) minimum size limit, except 27 inches (68.6 cm) May 1 through September 30 and 28 inches (71.1 cm) October 1 through October 31 (B). See gear restrictions (C.2), and Oregon state regulations for a description of the closed area at the mouth of Tillamook Bay, OR.

In 2004, the season will open March 15 for all salmon except coho. Chinook 26-inch minimum size limit. This opening could be modified following Council review at its November 2003 meeting.

Florence South Jetty to Humbug Mountain, OR

March 15 through June 30; July 17 through July 31; August 11 through August 29; and September 1 through October 31 (C.8). All salmon except coho (C.6). Chinook 26-inch (66.0-cm) minimum size limit, except 27 inches (68.6 cm) May 1 through September 30 and 28 inches (71.1 cm) October 1 through October 31 (B). See gear restrictions (C.2).

In 2004, the season will open March 15 for all salmon except coho. Chinook 26-inch minimum size limit. This opening could be modified following Council review at its November 2003 meeting.

Humbug Mountain, OR to Oregon-California Border

March 15 through May 31. All salmon except coho. See gear restrictions (C.2).

June 1 through earlier of June 30 or 2,500-chinook quota.

July 1 through earlier of July 31 or 1,200-chinook quota.

August 1 through earlier of August 29 or 2,500-chinook quota.

September 1 through earlier of September 30 or 3,000-chinook quota with a chinook 28 inch (71.1 cm) minimum size limit (B).

No transfer of remaining quota from earlier fisheries allowed (C.8). All salmon except coho. Possession and landing limit of 50 fish per trip June 1 through August 29; 65 fish per trip September 1-30. See gear restrictions (C.2). June 1 through September 30 all salmon must be landed and delivered to Gold Beach, Port Orford, or Brookings, OR and within 24 hours of closure.

In 2004, the season will open March 15 for all salmon except coho. Chinook 26-inch (66.0 cm) minimum size limit. This opening could be modified following Council review at its November 2003 meeting.

Oregon-California Border to Humboldt South Jetty

September 1 through earlier of September 30 or 10,000 chinook quota. All salmon except coho (B). Possession and landing limit of 40 fish per day. All fish caught in this area must be landed within the area and within 24 hours of any closure. See gear restrictions (C.2). Klamath Control Zone closed (C.4.d). When the fishery is closed between the OR-CA border and Humbug Mountain, OR and open to the south, vessels with fish on board caught in the open area off California may seek temporary mooring in Brookings, OR prior to landing in California only if such vessels first notify the Chetco River Coast Guard Station via VHF channel 22A between the hours of 0500 and 2200 and provide the vessel name, number of fish on board, and estimated time of arrival.

Horse Mountain to Point Arena, CA (Fort Bragg)

May 1 through May 31, July 3-14; July 18 through September 30. All salmon except coho (B). No possession or landing limit, or area landing restriction except: July 3-14 possession and landing limit of 150 fish per day per vessel and all fish caught in this area must be landed within the area and within 24 hours of any closure. See gear restrictions (C.2).

Point Reyes to Point San Pedro, CA (Fall Area Target Zone)

October 1 through October 17, Monday through Friday. All salmon except coho (B). See gear restrictions (C.2).

Pigeon Point, CA to U.S.-Mexico Border

May 1 through September 30. All salmon except coho (B). See gear restrictions (C.2).

B. Minimum Size (Inches) (See C.1)

Area (when open) | Chinook: Total length | Chinook: Head-off | Coho: Total length | Coho: Head-off | Pink
North of Cape Falcon, OR | 28.0 | 21.5 | 16.0 | 12.0 | None.
C. Falcon to Humbug Mt., OR:
Prior to May 1 | 26.0 | 19.5 |  |  | None.
May 1-September 30 | 27.0 | 20.5 |  |  | None.
October 1-31 | 28.0 | 21.5 |  |  | None.
Humbug Mt. to OR/CA Border:
Prior to September 1 | 26.0 | 19.5 |  |  | None.
September 1-30 | 28.0 | 21.5 |  |  | None.
South of OR/CA Border | 26.0 | 19.5 |  |  | None.
Metric equivalents: 28.0 in=71.1 cm, 27.0 in=68.6 cm, 26.0 in=66.0 cm, 21.5 in=54.6 cm, 19.5 in=49.5 cm, 16.0 in=40.6 cm, and 12.0 in=30.5 cm.

C. Special Requirements, Definitions, Restrictions, or Exceptions

C.1. Compliance with Minimum Size or Other Special Restrictions: All salmon on board a vessel must meet the minimum size or other special requirements for the area being fished and the area in which they are landed if that area is open. Salmon may be landed in an area that is closed only if they meet the minimum size or other special requirements for the area in which they were caught.

C.2. Gear Restrictions: a. Single point, single shank, barbless hooks are required in all fisheries.

b. Cape Falcon, OR to the Oregon/California border: No more than 4 spreads are allowed per line.

Spread defined: A single leader connected to an individual lure or bait.

c. Oregon/California border to U.S./Mexico border: No more than 6 lines are allowed per vessel and barbless circle hooks are required when fishing with bait by any means other than trolling.

Circle hook defined: A hook with a generally circular shape and a point which turns inward, pointing directly to the shank at a 90° angle.

Trolling defined: Fishing from a boat or floating device that is making way by means of a source of power, other than drifting by means of the prevailing water current or weather conditions.

C.3. Transit Through Closed Areas with Salmon on Board: It is unlawful for a vessel to have troll or recreational gear in the water while transiting any area closed to fishing for a certain species of salmon, while possessing that species of salmon; however, fishing for species other than salmon is not prohibited if the area is open for such species and no salmon are in possession.

C.4. Control Zone Definitions:

a. Cape Flattery Control Zone: The area from Cape Flattery, WA (48°23′00″ N. lat.) to the northern boundary of the U.S. EEZ; and the area from Cape Flattery south to Cape Alava, WA, 48°10′00″ N. lat., and east of 125°05′00″ W. long.

b. Grays Harbor Control Zone: The area defined by a line drawn from the Westport Lighthouse (46°53′18″ N. lat., 124°07′01″ W. long.) to Buoy #2 (46°52′42″ N. lat., 124°12′42″ W. long.) to Buoy #3 (46°55′00″ N. lat., 124°14′48″ W. long.) to the Grays Harbor North Jetty (46°36′00″ N. lat., 124°10′51″ W. long.).

c. Columbia Control Zone: An area at the Columbia River mouth, bounded on the west by a line running northeast/southwest between the red lighted Buoy #4 (46°13′35″ N. lat., 124°06′50″ W. long.) and the green lighted Buoy #7 (46°15′09″ N. lat., 124°06′16″ W. long.); on the east, by the Buoy #10 line which bears north/south at 357° true from the south jetty at 46°14′00″ N. lat., 124°03′07″ W. long. to its intersection with the north jetty; on the north, by a line running northeast/southwest between the green lighted Buoy #7 to the tip of the north jetty (46°15′48″ N. lat., 124°05′20″ W. long.) and then along the north jetty to the point of intersection with the Buoy #10 line; and, on the south, by a line running northeast/southwest between the red lighted Buoy #4 and tip of the south jetty (46°14′03″ N. lat., 124°04′05″ W. long.), and then along the south jetty to the point of intersection with the Buoy #10 line.

d. Klamath Control Zone: The ocean area at the Klamath River mouth bounded on the north by 41°38′48″ N. lat. (approximately 6 nautical miles (11.1 km) north of the Klamath River mouth); on the west, by 124°23′00″ W. long. (approximately 12 nautical miles (22.2 km) off shore); and, on the south, by 41°26′48″ N. lat. (approximately 6 nautical miles (11.1 km) south of the Klamath River mouth).

C.5. Notification When Unsafe Conditions Prevent Compliance With Regulations: If prevented by unsafe weather conditions or mechanical problems from meeting special management area landing restrictions, vessels must notify the U.S. Coast Guard and receive acknowledgment of such notification prior to leaving the area. This notification shall include the name of the vessel, port where delivery will be made, approximate amount of salmon (by species) on board and the estimated time of arrival.

C.6. Incidental Halibut Harvest: During authorized periods, the operator of a vessel that has been issued an incidental halibut harvest license may retain Pacific halibut caught incidentally in Area 2A while trolling for salmon. Halibut retained must be no less than 32 inches (81.3 cm) in total length, measured from the tip of the lower jaw with the mouth closed to the extreme end of the middle of the tail, and must be landed with the head on. License applications for incidental harvest must be obtained from the International Pacific Halibut Commission (phone 206-634-1838). Applicants must apply prior to April 1 of each year. Incidental harvest is authorized only during May-June troll seasons and after June 30 if quota remains and if announced on the NMFS hotline (phone 800-662-9825). ODFW and WDFW will monitor landings. If the landings are projected to exceed the 39,300-lb. (17.8-mt) preseason allocation or the total Area 2A non-Indian commercial halibut allocation, NMFS will take inseason action to close the incidental halibut fishery.

License holders may land no more than 1 halibut per each 3 chinook, except 1 halibut may be landed without meeting the ratio requirement, and no more than 35 halibut may be landed per trip. Halibut retained must be no less than 32 inches (81.3 cm) in total length (with head on).

A “C-shaped” yelloweye rockfish conservation area is an area to be avoided for salmon troll fishing. NMFS and the Council request that salmon trollers voluntarily avoid this area in order to protect yelloweye rockfish. The area is defined in the Pacific Council Halibut Catch Sharing Plan in the North Coast subarea (WA marine area 3), with the following coordinates in the order listed:

48°18′ N. lat.; 125°18′ W. long;

48°18′ N. lat.; 124°59′ W. long;

48°11′ N. lat.; 124°59′ W. long;

48°11′ N. lat.; 125°11′ W. long;

48°04′ N. lat.; 125°11′ W. long;

48°04′ N. lat.; 124°59′ W. long;

48°00′ N. lat.; 124°59′ W. long;

48°00′ N. lat.; 125°18′ W. long;

and connecting back to 48°18′ N. lat.; 125°18′ W. long.

C.7. Inseason Management: In addition to standard inseason actions or modifications already noted under the season description, the following inseason guidance is provided to NMFS:

a. Any chinook remaining in the May-June non-Indian commercial troll harvest guideline north of Cape Falcon, OR may be transferred to the July-September harvest guideline on a fishery impact equivalent basis.

b. At the March 2004 meeting, the Council will consider inseason recommendations to: (1) open commercial seasons for all salmon except coho prior to May 1 in the area between Horse Mountain and Point Arena, CA and (2) identify the areas, season, quota, and special regulations for any experimental April fisheries (experimental fishery proposals must meet Council protocol and be received in November 2003).

C.8. Consistent with Council management objectives, the State of Oregon may establish additional late-season, chinook-only fisheries in state waters. Check state regulations for details.

C.9. For the purposes of California Department of Fish and Game Code, Section 8232.5, the definition of the Klamath Management Zone for the ocean salmon season shall be that area from Humbug Mountain, OR to Horse Mountain, CA.

Section 2. Recreational Management Measures for 2003 Ocean Salmon Fisheries

Note: This section contains restrictions in parts A, B, and C that must be followed for lawful participation in the fishery.

A. Season Description

North of Cape Falcon, OR

U.S.-Canada Border to Cape Alava, WA (Neah Bay Area)

June 22 through earlier of September 14 or 23,400 coho subarea quota with a subarea guideline of 3,900 chinook.

All salmon except no chum retention north of Cape Alava, WA August 1 through September 14; open 7 days per week, 2 fish per day, only one of which may be a chinook (chinook 26-inch (66.0 cm) minimum size limit) (B), plus one additional pink salmon. All retained coho must have a healed adipose fin clip. See gear restrictions (C.2). Chinook non-retention east of the Bonilla-Tatoosh line (C.3.d) during Council managed ocean fishery, except chinook retention allowed July 1 through July 31. Inseason management may be used to sustain season length and keep harvest within the overall chinook recreational TAC for north of Cape Falcon, OR (C.4).

Cape Alava to Queets River, WA (La Push Area)

June 22 through earlier of September 14 or 5,750 coho subarea quota with a subarea guideline of 2,300 chinook; September 20 through earlier of October 5 or 100 coho quota or 100 chinook quota; Fishing allowed only inside an area defined by a line from Teahwhit Head (47°52′24″ N. lat., 124°36′36″ W. long.) northwesterly to “Q” buoy (47°53′08″ N. lat., 124°40′34″ W. long.) to Cake Rock (47°56′00″ N. lat., 124°41′12″ W. long.) then true east to the shoreline (C.5).

All salmon, open 7 days per week, 2 fish per day, only one of which may be a chinook (chinook 26-inch (66.0cm) minimum size limit)(B), plus one additional pink salmon. All retained coho must have a healed adipose fin clip. See gear restrictions (C.2). Inseason management may be used to sustain season length and keep harvest within the overall chinook recreational quota for north of Cape Falcon, OR (C.4).

Queets River to Leadbetter Point, WA (Westport Area)

June 22 through earlier of September 14 or 83,250 coho subarea quota with a subarea guideline of 40,600 chinook. Open Sunday through Thursday. All salmon, 2 fish per day, only one of which may be a chinook (chinook 26-inch (66.0 cm) minimum size limit)(B). All retained coho must have a healed adipose fin clip. See gear restrictions (C.2). Grays Harbor Control Zone closed beginning August 16 (C.3.b). Inseason management may be used to sustain season length and keep harvest within the overall chinook recreational quota for north of Cape Falcon, OR (C.4).

Leadbetter Point, WA to Cape Falcon, OR (Columbia River Area)

June 29 through earlier of September 30 or 112,500 coho subarea quota with a subarea guideline of 12,700 chinook. Open Sunday through Thursday. An inseason conference call (see 50 CFR 660.409(b)(1)) will be scheduled for a day no later than August 6 to discuss opening 7 days per week. All salmon. Two fish per day, only one of which may be a chinook (chinook 26-inch (66.0-cm) minimum size limit)(B). All retained coho must have a healed adipose fin clip. See gear restrictions (C.2). Columbia Control Zone closed (C.3.a). Closed between Cape Falcon, OR and Tillamook Head beginning August 1. Inseason management may be used to sustain season length and keep harvest within the overall chinook recreational quota for north of Cape Falcon, OR (C.4). South of Cape Falcon, OR

Cape Falcon to Humbug Mountain, OR

Except as provided below during the selective fishery for marked coho, the season will be March 15 through October 31 (C.5). All salmon except coho (B). Open 7 days per week, 2 fish per day. See gear restrictions (C.2). See Oregon State regulations for a description of a closure at the mouth of Tillamook Bay, OR (C.5).

In 2004, the season will open March 15 for all salmon except coho. Open 7 days per week, 2 fish per day, and the same gear restrictions as in 2003 (C.2). This opening could be modified following Council review at its November 2003 meeting.

Selective fishery for marked coho: June 21 through earlier of August 24 or a landed catch of 88,000 coho. Open 7 days per week. All salmon (B). 2 fish per day. All retained coho must have a healed adipose fin clip. Open days may be adjusted inseason to utilize the available quota (C.4). All salmon except coho season reopens the earlier of August 25 or attainment of the coho quota.

Humbug Mountain, OR to Horse Mountain, CA (Klamath Management Zone)

May 17 through September 14. All salmon except coho (B). Open 7 days per week, 2 fish per day. See gear restrictions (C.2). Klamath Control Zone closed (C.3.c).

Horse Mountain to Point Arena, CA (Fort Bragg)

February 15 through November 16. All salmon except coho. Open 7 days per week, 2 fish per day. Chinook minimum size limit 24 inches (61.0 cm) through April 30, and 20 inches (50.8 cm) thereafter (B). See gear restrictions (C.2).

In 2004, season opens February 14 (nearest Saturday to February 15) for all salmon except coho. Open 7 days per week, 2 fish per day, chinook 24 inch minimum (61.0 cm) size limit (B), and the same gear restrictions as in 2003 (C.2).

Point Arena to Pigeon Point, CA (San Francisco)

April 12 through November 9. All salmon except coho. Open 7 days per week, 2 fish per day. Chinook minimum size limit 24 inches (61.0 cm) through April 30, and 20 inches (50.8 cm) thereafter (B). See gear restrictions (C.2).

In 2004, the season will open April 17 for all salmon except coho. Open 7 days per week, 2 fish per day, chinook 24 inch minimum (61.0 cm) size limit (B) and the same gear restrictions as in 2003 (C.2).

Pigeon Point, CA to U.S.-Mexico Border

March 29 through September 28. All salmon except coho. Open 7 days per week, 2 fish per day. Chinook minimum size limit 24 inches (61.0 cm) through April 30, and 20 inches (50.8 cm) thereafter (B). See gear restrictions (C.2).

In 2004, the season will open April 3 for all salmon except coho. Open 7 days per week, 2 fish per day, chinook 24 inch (61.0 cm) minimum size limit (B) and the same gear restrictions as in 2003 (C.2).

B. Minimum Size (Total Length in Inches) (See C.1)

Area (when open) | Chinook | Coho | Pink
North of Cape Falcon, OR | 24.0 | 16.0 | None.
Cape Falcon to Horse Mt., CA | 20.0 | 16.0 | None, except 20.0 off CA.
S. of Horse Mt.:
Prior to May 1 | 24.0 |  | 20.0.
Beginning May 1 | 20.0 |  | 20.0.
Metric equivalents: 24.0 in=61.0 cm, 20.0 in=50.8 cm, 16.0 in=40.6 cm.

C. Special Requirements, Definitions, Restrictions, or Exceptions

C.1. Compliance With Minimum Size and Other Special Restrictions: All salmon on board a vessel must meet the minimum size or other special requirements for the area being fished, and the area in which they are landed if that area is open. Salmon may be landed in an area that is closed only if they meet the minimum size or other special requirements for the area in which they were caught.

C.2. Gear Restrictions: All persons fishing for salmon, and all persons fishing from a boat with salmon on board must meet the gear restrictions listed below for specific areas or seasons.

a. U.S.-Canada Border to Point Conception, CA: No more than one rod may be used per angler and single point, single shank barbless hooks are required for all fishing gear. (Note: ODFW regulations in the state-water fishery off Tillamook Bay, OR may allow the use of barbed hooks to be consistent with inside regulations.)

b. Cape Falcon, OR to Point Conception, CA: Anglers must use no more than 2 single point, single shank, barbless hooks.

c. Horse Mountain to Point Conception, CA: Single point, single shank, barbless circle hooks (see circle hook definition below) must be used if angling with bait by any means other than trolling and no more than 2 such hooks shall be used. When angling with 2 hooks, the distance between the hooks must not exceed 5 inches when measured from the top of the eye of the top hook to the inner base of the curve of the lower hook, and both hooks must be permanently tied in place (hard tied). Circle hooks are not required when artificial lures are used without bait.

Circle hook defined: A hook with a generally circular shape and a point which turns inward, pointing directly to the shank at a 90° angle.

Trolling defined: Angling from a boat or floating device that is making way by means of a source of power, other than drifting by means of the prevailing water current or weather conditions.

C.3. Control Zone Definitions:

a. Columbia Control Zone: An area at the Columbia River mouth, bounded on the west by a line running northeast/southwest between the red lighted Buoy #4 (46°13′35″ N. lat., 124°06′50″ W. long.) and the green lighted Buoy #7 (46°15′09″ N. lat., 124°06′16″ W. long.); on the east, by the Buoy #10 line which bears north/south at 357° true from the south jetty at 46°14′00″ N. lat., 124°03′07″ W. long. to its intersection with the north jetty; on the north, by a line running northeast/southwest between the green lighted Buoy #7 to the tip of the north jetty (46°15′48″ N. lat., 124°05′20″ W. long.) and then along the north jetty to the point of intersection with the Buoy #10 line; and, on the south, by a line running northeast/southwest between the red lighted Buoy #4 and tip of the south jetty (46°14′03″ N. lat., 124°04′05″ W. long.), and then along the south jetty to the point of intersection with the Buoy #10 line.

b. Grays Harbor Control Zone: The area defined by a line drawn from the Westport Lighthouse (46°53′18″ N. lat., 124° 07′01″ W. long.) to Buoy #2 (46°52′42″ N. lat., 124°12′42″ W. long.) to Buoy #3 (46°55′00″ N. lat., 124°14′48″ W. long.) to the Grays Harbor north jetty (46°36′00″N. lat., 124°10′51″ W. long.).

c. Klamath Control Zone: The ocean area at the Klamath River mouth bounded on the north by 41°38′48″ N. lat. (approximately 6 nautical miles (11.1 km) north of the Klamath River mouth); on the west, by 124°23′00″ W. long. (approximately 12 nautical miles (22.2 km) off shore); and, on the south, by 41°26′48″ N. lat. (approximately 6 nautical miles (11.1 km) south of the Klamath River mouth).

d. Bonilla-Tatoosh Line: Defined as a line running from the western end of Cape Flattery, WA to Tatoosh Island Lighthouse (48°23′30″ N. lat., 124°44′12″ W. long.) to the buoy adjacent to Duntze Rock (48°28′00″ N. lat., 124°45′00″ W. long.), then in a straight line to Bonilla Point (48°35′30″ N. lat., 124°43′00″ W. long.) on Vancouver Island, B.C.

C.4. Inseason Management: Regulatory modifications may become necessary inseason to meet preseason management objectives such as quotas, harvest guidelines, and season duration. Actions could include modifications to bag limits or days open to fishing, and extensions or reductions in areas open to fishing. NMFS may transfer coho inseason among recreational subareas north of Cape Falcon, OR to help meet the recreational season duration objectives (for each subarea) after conferring with the states, Council, representatives of the affected ports, and the Salmon Advisory Subpanel recreational representatives north of Cape Falcon, OR.

C.5. Additional Seasons in State Territorial Waters: Consistent with Council management objectives, the States of Washington and Oregon may establish limited seasons in state waters. Oregon state-water fisheries are limited to chinook salmon. Check state regulations for details.

Section 3. Treaty Indian Management Measures for 2003 Ocean Salmon Fisheries

Note: This section contains restrictions in parts A, B, and C which must be followed for lawful participation in the fishery.

A. Season Descriptions

Tribe and area boundaries | Open seasons | Salmon species | Minimum size (inches) *: Chinook | Minimum size (inches) *: Coho | Special restrictions by area
MAKAH—Washington State Statistical Area 4B and that portion of the FMA north of 48°02′15″ N. lat. (Norwegian Memorial) and east of 125°44′00″ W. long | May 1 through earlier of June 30 or chinook quota July 1 through earliest of September 15 or chinook or coho quota | All except coho All | 24 24 | 16 | Barbless hooks. No more than 8 fixed lines per boat or no more than 4 hand-held lines per person.
QUILEUTE—That portion of the FMA between 48°07′36″ N. lat. (Sand Point) and 47°31′42″ N. lat. (Queens River) and east of 125°44′00″ W. long | May 1 through earlier of June 30 or chinook quota July 1 through earliest of September 15 or chinook or coho quota | All except coho All | 24 24 | 16 | Barbless hooks. No more than 8 fixed lines per boat.
HOH—That portion of the FMA between 47°54′18″ N. lat. (Quillayute River) and 47°21′00″ N. lat. (Quinault River) and east of 125°44′00″ W. long | May 1 through earlier of June 30 or chinook quota July 1 through earliest of September 15 or chinook or coho quota | All except coho All | 24 24 | 16 | Barbless hooks. No more than 8 fixed lines per boat.
QUINAULT—That portion of the FMA between 47°40′06″ N. lat. (Destruction Island) and 46°53′18″ N. lat. (Point Chehalis) and east of 125°44′00″ W. long | May 1 through earlier of June 30 or chinook quota July 1 through earliest of September 15 or chinook or coho quota | All except coho All | 24 24 | 16 | Barbless hooks. No more than 8 fixed lines per boat.
*Metric equivalents: 24 in=61.0 cm, 16 in=40.6 cm.

B. Special Requirements, Restrictions, and Exceptions

B.1. All boundaries may be changed to include such other areas as may hereafter be authorized by a Federal court for that tribe's treaty fishery.

B.2. Applicable lengths for dressed, head-off salmon, are 18 inches (45.7 cm) for chinook and 12 inches (30.5 cm) for coho. There are no minimum size or retention limits for ceremonial and subsistence harvest.

B.3. The Quileute Tribe will continue a ceremonial and subsistence fishery during the time frame of September 15 through October 15 in the same manner as in 2002; fish taken during this fishery are to be counted against treaty Indian ocean troll quotas established for the July through September 2003 season (see C. below).

B.4. The area within a 6-nautical mile (11.1-km) radius of the mouths of the Queets River, WA (47°31′42″ N. lat.) and the Hoh River (47°45′12″ N. lat.) will be closed to commercial fishing. A closure within 2 nautical miles (3.7 km) of the mouth of the Quinault River (47°21′00″ N. lat.) may be enacted by the Quinault Nation and/or the State of Washington and will not adversely affect the Secretary of Commerce's management regime.

C. Quotas

C.1. The overall treaty troll ocean quotas are 60,000 chinook and 90,000 coho. The overall chinook quota is divided into 30,000 chinook for the May/June chinook-directed fishery and 30,000 chinook for the July through September all-salmon season. If the chinook quota for the May/June fishery is not fully utilized, the excess fish cannot be transferred into the later all-salmon season. The quotas include troll catches by the S'Klallam and Makah tribes in Washington State Statistical Area 4B from May 1 through September 15.

Section 4. Halibut Retention

Under the authority of the Northern Pacific Halibut Act, NMFS promulgated regulations governing the Pacific halibut fishery which appear at 50 CFR part 300, subpart E. In addition, the 2003 Pacific halibut management measures were published in the Federal Register on March 7, 2003 (68 FR 10989). The regulations and management measures provide that vessels participating in the salmon troll fishery in Area 2A (all waters off the States of Washington, Oregon, and California), which have obtained the appropriate International Pacific Halibut Commission (IPHC) license, may retain halibut caught incidentally during authorized periods in conformance with provisions published with the annual salmon management measures. A salmon troller may participate in the halibut incidental catch fishery during the salmon troll season or in the directed commercial fishery targeting halibut, but not both.

The following measures have been approved by the IPHC, and implemented by NMFS. The operator of a vessel who has been issued an incidental halibut harvest license by the IPHC may retain Pacific halibut caught incidentally in Area 2A, during authorized periods, while trolling for salmon. Incidental harvest is authorized only during the May and June troll seasons. It is also authorized after June 30 if halibut quota remains and if halibut retention is announced on the NMFS hotline (phone 800-622-9825). License holders may land no more than 1 halibut per each 3 chinook, except 1 halibut may be landed without meeting the ratio requirement, and no more than 35 halibut may be landed per trip. Halibut retained must meet the minimum size limit of 32 inches (81.3 cm) total length. The ODFW and WDFW will monitor landings and, if they are projected to exceed the 39,300-lb. (17.8-mt) preseason allocation or the Area 2A non-Indian commercial total allowable catch of halibut, NMFS will take inseason action to close the incidental halibut fishery. License applications for incidental harvest must be obtained from the IPHC. Applicants must apply prior to April 1 of each year.

A “C-shaped” yelloweye rockfish conservation area is an area to be avoided for salmon troll fishing. NMFS and the Council request that salmon trollers voluntarily avoid this area in order to protect yelloweye rockfish. The area is defined in the Pacific Council Halibut Catch Sharing Plan in the North Coast subarea (WA marine area 3) (See section 1.C.6. for the coordinates).

Section 5. Gear Definitions and Restrictions

In addition to the gear restrictions shown in section 1, 2, and 3, the following gear definitions and restrictions are applicable:

Commercial Troll Fishing Gear: Troll fishing gear for the ocean salmon fisheries in the EEZ off Washington, Oregon, and California is defined as one or more lines that drag hooks behind a moving fishing vessel. In that portion of the fishery management area (FMA) off Oregon and Washington, the line or lines must be affixed to the vessel and must not be intentionally disengaged from the vessel at any time during the fishing operation.

Recreational Fishing Gear: Recreational fishing gear for the FMA is defined as angling tackle consisting of a line with no more than one artificial lure or natural bait attached. In that portion of the FMA off Oregon and Washington, the line must be attached to a rod and reel held by hand or closely attended; the rod and reel must be held by hand while playing a hooked fish. No person may use more than one rod and line while fishing off Oregon or Washington. In that portion of the FMA off California, the line must be attached to a rod and reel held by hand or closely attended. Weights directly attached to a line may not exceed 4 lb (1.8 kg). While fishing off California north of Point Conception, no person fishing for salmon and no person fishing from a boat with salmon on board may use more than one rod and line. Fishing includes any activity that can reasonably be expected to result in the catching, taking, or harvesting of fish.

Section 6. Geographical Landmarks

Wherever the words “nautical miles off shore” are used in this document, the distance is measured from the baseline from which the territorial sea is measured.

Geographical landmarks referenced in this document are at the following locations:

Cape Flattery, WA | 48°23′00″ N. lat.
Cape Alava, WA | 48°10′00″ N. lat.
Queets River, WA | 47°31′42″ N. lat.
Leadbetter Point, WA | 46°38′10″ N. lat.
Cape Falcon, OR | 45°46′00″ N. lat.
Florence South Jetty | 44°00′54″ N. lat.
Humbug Mountain, OR | 42°40′30″ N. lat.
Oregon-California Border | 42°00′00″ N. lat.
Humboldt South Jetty | 40°45′53″ N. lat.
Horse Mountain, CA | 40°05′00″ N. lat.
Point Arena, CA | 38°57′30″ N. lat.
Point Reyes, CA | 37°59′44″ N. lat.
Point San Pedro, CA | 37°35′40″ N. lat.
Pigeon Point, CA | 37°11′00″ N. lat.
Point Conception, CA | 34°27′00″ N. lat.

Section 7. Inseason Notice Procedures

Actual notice of inseason management actions will be provided by a telephone hotline administered by the Northwest Region, NMFS, 206-526-6667 or 800-662-9825, and by U.S. Coast Guard Notice to Mariners broadcasts. These broadcasts are announced on Channel 16 VHF-FM and 2182 KHz at frequent intervals. The announcements designate the channel or frequency over which the Notice to Mariners will be immediately broadcast. Inseason actions will also be filed with the Federal Register as soon as practicable. Since provisions of these management measures may be altered by inseason actions, fishermen should monitor either the telephone hotline or Coast Guard broadcasts for current information for the area in which they are fishing.

Classification

This notification of annual management measures is exempt from review under Executive Order 12866.

The provisions of 50 CFR 660.411 state that if, for good cause, an action must be filed without affording a prior opportunity for public comment, the measures will become effective; however, public comments on the action will be received for a period of 15 days after the date of publication in the Federal Register. NMFS will receive public comments on this action for 15 days after the date of publication of this action in the Federal Register. These regulations are being promulgated under the authority of 16 U.S.C. 1855(d).

The Assistant Administrator for Fisheries, NOAA (AA) finds good cause under 5 U.S.C. 553(b)(B), to waive the requirement for prior notice and opportunity for public comment.

The annual salmon management cycle begins May 1 and continues through April 30 of the following year. May 1 was chosen because the pre-May harvests constitute a relatively small portion of the annual catch. The time-frame of the preseason process for determining the annual modifications to ocean salmon fishery management measures depends on when the pertinent biological data are available. Salmon stocks are managed to meet annual spawning escapement goals or specific exploitation rates. Achieving either of these objectives requires designing management measures that are appropriate for the ocean abundance predicted for that year. These pre-season abundance forecasts, which are derived from the previous year's observed spawning escapement, vary substantially from year to year, and are not available until January and February because spawning escapement continues through the fall.

The preseason planning and public review process associated with developing Council recommendations is initiated in February as soon as the forecast information becomes available. The public planning process requires coordination of management actions of four states, numerous Indian tribes, and the Federal Government, all of which have management authority over the stocks. This complex process includes the affected user groups, as well as the general public. The process is compressed into a 2-month period which culminates at the April Council meeting at which the Council adopts a recommendation that is forwarded to NMFS for review, approval and implementation of fishing regulations effective on May 1.

As described earlier (see Schedule Used to Establish 2003 Management Measures), the Council solicited public comment on its proposed management options and notified the public of the measures it recommended to NMFS for implementation. In addition to the Council process, notice and opportunity for public comment is provided through meetings and caucuses of State, Tribal, local governments, and the various user groups. This parallel process occurs throughout the February to April time-frame when Council recommendations are developed. The major meetings that concern salmon fisheries on the West Coast include the Klamath Fishery Management Council, established at 16 U.S.C. 46085-2; North of Cape Falcon Forum, sponsored by the State of Washington and northwest Indian tribes with treaty fishing rights; U.S. v. Oregon meetings related to ocean and Columbia River fisheries; and meetings held by the Oregon Fish and Wildlife Commission and California Fish and Game Commission. Recommendations and information from these forums are incorporated into the Council process when representatives from these entities provide comments and information at Council sponsored functions.

Providing opportunity for prior notice and public comments on the Council's recommended measures through a proposed and final rulemaking process would require 30 to 60 days in addition to the 2-month period required for development of the regulations. Delaying implementation of annual fishing regulations, which are based on the current stock abundance projections, for an additional 60 days would require that fishing regulations for May and June be set in the previous year without knowledge of current stock status. Although this is currently done for fisheries opening prior to May, relatively little harvest occurs during that period (e.g., in 2002 less than 10 percent of commercial and recreational harvest occurred prior to May 1). Allowing the much more substantial harvest levels normally associated with the May and June seasons to be regulated in a similar way would impair NMFS' ability to protect weak and ESA listed stocks and provide harvest opportunity where appropriate. The choice of May 1 as the beginning of the regulatory season balances the need to gather and analyze the data needed to meet the management objectives of the Salmon FMP and the requirements to provide adequate public notice and comment on the regulations implemented by NMFS. Providing for notice and public comment on the Council's recommendations, in addition to that provided for through the Council process, is therefore impracticable and contrary to the public interest.

Overall, the annual population dynamics of the various salmon stocks require managers to vary the season structure of the various West Coast area fisheries to both protect weaker stocks and give fishers access to stronger salmon stocks, particularly hatchery produced fish. Failure to implement these measures immediately could compromise the status of certain stocks, or result in foregone opportunity to harvest stocks whose abundance has increased relative to the previous year thereby undermining the purpose of this agency action. For example, the increase in ocean abundance projected for certain coho stocks in 2003 allows for a commercial chinook fishery in the Fort Bragg area for the entire month of May that was not possible in 2002. North of Cape Falcon the estimated chinook ocean abundance in 2003 is down from last year. As a result, the 2003 fisheries are subject to additional constraints. The 2002 regulations included an all-salmon-except-coho recreational fishery in May and June. In 2003, as a result of the decreased chinook abundance, there is no May-June recreational chinook fishery. The recreational size limit for chinook north of Cape Falcon also changed from 24-inches total length, in 2002, to 26-inches for 2003. The commercial May-June chinook fishery had a quota of 50,000 fish in 2002. In 2003 the May-June chinook quota was reduced to 40,000 fish because of the lower overall abundance. Requiring 2003 fisheries north of Cape Falcon to operate under the 2002 regulations during the May-June time frame would again compromise the status of certain stocks or constrain later season fisheries that were structured to provide opportunity to harvest a relative abundant coho run. Based upon the above-described need to have these measures effective on May 1 and the fact that there is limited time available to implement these new measures after the final Council meeting in April and before the commencement of the ocean salmon fishing year on May 1, NMFS has concluded it is impracticable to provide an opportunity for prior notice and public comment under 5 U.S.C. 553(b)(B).

The AA also finds that good cause exists under 5 U.S.C. 553(d)(3), to waive the 30-day delay in effectiveness of this final rule. As previously discussed, these measures are essential to conserve threatened and endangered ocean salmon stocks, and to provide for harvest of more abundant stocks. If these measures are not in place on May 1, the previous year's management measures will continue to apply. Failure to implement these measures immediately could compromise the status of certain stocks and negatively impact international, state, and tribal salmon fisheries, thereby undermining the purposes of this agency action.

To enhance notification of the fishing industry of these new measures, NMFS is announcing the new measures over the telephone hotline used for inseason management actions and is also posting the regulations on both of its West Coast regional Web sites (www.nwr.noaa.gov and swr.nmfs.noaa.gov). NMFS is also advising the States of Washington, Oregon, and California on the new management measures. These states announce the seasons for applicable state and Federal fisheries through their own public notification systems.

This action contains collection-of-information requirements subject to the Paperwork Reduction Act (PRA), and which have been approved by OMB under control number 0648-0433. The public reporting burden for providing notifications if landing area restrictions cannot be met, or to obtain temporary mooring in Brookings, OR is estimated to average 15 minutes per response. This estimate includes the time for reviewing instructions, searching existing data sources, gathering and maintaining the data needed, and completing and reviewing the collection of information. Send comments regarding this burden estimate, or any other aspect of this data collection, including suggestions for reducing the burden, to NMFS and OMB (see ADDRESSES).

Notwithstanding any other provision of the law, no person is required to respond to, nor shall any person be subject to a penalty for failure to comply with, a collection of information subject to the requirements of the PRA, unless that collection of information displays a currently valid OMB control number.

Since 1989, NMFS has listed 16 ESUs of salmon on the West Coast. As the listings have occurred, NMFS has conducted formal ESA section 7 consultations and issued biological opinions, and made determinations under section 4(d) of the ESA (Table 1), that consider the impacts to listed salmon species resulting from proposed implementation of the Salmon FMP, or in some cases, from proposed implementation of the annual management measures.

Table 1.—NMFS' Endangered Species Act Consultations and Section 4(d) Determinations Related to Ocean Fisheries Implemented Under the Salmon FMP and Duration of the Proposed Action Covered by Each
Date | Evolutionarily significant unit covered and effective period
March 8, 1996 | Snake River chinook and sockeye (until reinitiated).
April 28, 1999 | Oregon coast coho, S. Oregon/ N. California coast coho, Central California coast coho (until reinitiated).
April 28, 2000 | Central Valley spring chinook and California coast chinook (until reinitiated).
April 27, 2001 | Hood Canal summer chum 4(d) limit and associated biological opinion (until reinitiated).
April 30, 2001 | Lower Columbia River chinook, Upper Willamette River chinook, Upper Columbia River spring chinook, Ozette Lake sockeye, ten steelhead ESUs, Columbia River chum (until reinitiated).
April 29, 2002 | Sacramento River winter chinook (2 years).
Estimated approval in May, 2003 | Puget Sound chinook 4(d) limit and associated biological opinion (1 year).

Associated with the biological opinions are incidental take statements that specify the expected level of take. If the fisheries are conducted in accordance with the statement's terms and conditions the take is exempted from the section 9 prohibitions of the ESA. Some of the biological opinions have concluded that implementation of the Salmon FMP is not likely to jeopardize the continued existence of certain listed ESUs. Other biological opinions have found that implementation of the Salmon FMP is likely to jeopardize certain listed ESUs and have identified reasonable and prudent alternatives (consultation standards) that would avoid the likelihood of jeopardizing the continued existence of the ESU under consideration.

In a March 7, 2003, letter to the Council, NMFS provided the Council with ESA consultation standards and guidance for the management of stocks listed under the ESA. These management measures meet those standards.

For the Puget Sound chinook, NMFS is now completing its final review of a RMP for the 2003 fisheries submitted by the WDFW and Puget Sound Treaty Tribes under the ESA 4(d) rule. The state and tribes manage their Council-area and inside Puget Sound fisheries as a package in coordination with the Council and NMFS to ensure that all impacts are accounted for and that conservation constraints are met. NMFS has determined that the management measures for the ocean salmon fisheries are consistent with the State and Tribal RMP, and preliminarily that the RMP is consistent with the 4(d) rule. NMFS plans to complete the final determinations on the RMP, and the associated biological opinion before the end of May.

Pending completion of the biological opinion on Puget Sound chinook that will cover the ocean fishery, NMFS has concluded, pursuant to ESA section 7(d), that impacts associated with Council fisheries expected to occur before the end of May would not constitute an irreversible or irretrievable commitment of resources with respect to the agency action which has the effect of foreclosing the formulation or implementation of any reasonable and prudent alternative. Impacts are expected to occur in the May fisheries are quite limited and well within the population-specific impact limits that NMFS provided to the Council as part of their guidance on ESA harvest limits. As a result, in the unlikely event that additional conservation measures were to be needed, NMFS would have sufficient flexibility to adjust fisheries, if necessary, as the consultation process is completed.

The Council's recommended management measures are consistent with the biological opinions that find no jeopardy, the reasonable and prudent alternatives in the jeopardy biological opinions, and the terms of the State and Tribal RMPs.

Authority: 16 U.S.C. 773-773k; 1801 et seq.

Dated: April 30, 2003.
Rebecca Lent,
Deputy Assistant Administrator for Regulatory Programs, National Marine Fisheries Service.

[FR Doc. 03-11083 Filed 5-1-03; 11:02 am]

BILLING CODE 3510-22-P